DEPARTMENT OF VETERANS AFFAIRS

Advisory Committee on U.S. Outlying Areas and Freely Associated States; Notice of Establishment

As required by section 9(a)(2) of the Federal Advisory Committee Act, the Department of Veterans Affairs hereby gives notice of the establishment of the Advisory Committee on U.S. Outlying Areas and Freely Associated States. The Advisory Committee on U.S. Outlying Areas and Freely Associated States (Committee) is a statutory committee established as required by subchapter III of chapter 5 of title 38, U.S.C., amended to include section 548. The Committee operates in accordance with provisions of the Federal Advisory Committee Act, as amended, 5 U.S.C. Ch. 10.

The Committee provides advice and guidance to the Secretary of Veterans Affairs on all matters relating to covered Veterans residing in: American Samoa; Guam; Puerto Rico; The Commonwealth of the Northern Mariana Islands; The Virgin Islands of the United States; The Federated States of Micronesia; The Republic of the Marshall Islands; and The Republic of Palau.

The Committee shall be comprised of 15 voting Members selected by the Secretary from among individuals nominated as specified under the subsection below and shall be designated as Special Government Employees, Regular Government Employees or Representatives:

A. Appointment Authority

i. At least one member of the Committee represents the American Samoa; Guam; Puerto Rico; The Commonwealth of the Northern Mariana Islands; The Virgin Islands of the United States; The Federated States of Micronesia; The Republic of the Marshall Islands; and The Republic of Palau.

ii. The Secretary may consult with any Member of Congress who represents an area specified.

iii. Not fewer than half of the members appointed are covered Veterans, unless the Secretary determines that an insufficient number of qualified covered Veterans are available.

B. Terms/Vacancies: The Chair and Committee members shall be appointed for a term of two years; and may be reappointed to serve an additional 2-year term. Not later than 180 days after the Secretary (or in the case of Ex-officio member, the Secretary of State or the Secretary of the Interior, as the case may be) receives notice of a vacancy in the Committee, the vacancy shall be filled in the same manner as the original appointment. Additionally, a member may be reappointed for one additional term at the Secretary's discretion.

The Committee shall be comprised of such Ex-officio members as the Secretary of State and the Secretary of the Interior shall appoint from among employees of the Department of State and the Department of the Interior.

Any member of the public seeking additional information should contact Mr. Bernard Johnson, Designated Federal Officer (DFO), Department of Veterans Affairs, Veterans Benefits Administration—Outreach, Transition and Economic Development, via email at Bernard.Jonhnson2@va.gov, or (404) 210-1680.

Dated: June 16, 2023.
Jelessa M. Burney,
Federal Advisory Committee Management Officer.

[FR Doc. 2023-13291 Filed 6-21-23; 8:45 am]

BILLING CODE 8320-01-P